ENVIRONMENTAL PROTECTION AGENCY

40 CFR Parts 54, 135, 210, 254, 374, and 702

[EPA-HQ-OGC-2024-0557; FRL 11956-01-OGC]

RIN 2015-AA04

Prior Notice of Citizen Suits

AGENCY: Environmental Protection Agency (EPA).

ACTION: Proposed rule.

SUMMARY: The Environmental Protection Agency (EPA) is proposing to amend its regulations prescribing the manner in which prior notice of citizen suits is to be provided as required under the citizen suit provisions of the Clean Air Act (CAA), the Clean Water Act (CWA), the Safe Drinking Water Act (SDWA), the Noise Control Act (NCA), the Resource Conservation and Recovery Act (RCRA), the Comprehensive Environmental Response, Compensation, and Liability Act (CERCLA), and the Toxic Substances Control Act (TSCA). This proposed rulemaking would generally require electronic service to EPA of Notices of Intent (NOIs) to file a citizen suit under the listed environmental statutes. These proposed revisions would help ensure the Agency receives and processes such NOIs in a timely and efficient manner.

DATES: Comments must be received on or before March 26, 2026.

ADDRESSES: You may send comments, identified by Docket ID No. EPA-HQ-OGC-2024-0557, by any of the following methods:

• Federal eRulemaking Portal: https://www.regulations.gov/ (our preferred method). Follow the online instructions for submitting comments.

• Mail: U.S. Environmental Protection Agency, EPA Docket Center, Office of General Counsel Docket, Mail Code 28221T, 1200 Pennsylvania Avenue NW, Washington, DC 20460.

• Hand Delivery or Courier: EPA Docket Center, WJC West Building, Room 3334, 1301 Constitution Avenue NW, Washington, DC 20004. The Docket Center's hours of operations are 8:30 a.m. to 4:30 p.m., Monday-Friday (except Federal Holidays).

Instructions: All submissions received must include the Docket ID No. for this rulemaking. Comments received may be posted without change to https://www.regulations.gov, including personal information provided. For detailed instructions on sending comments and additional information on the rulemaking process, see the “Public Participation” heading of the SUPPLEMENTARY INFORMATION section of this document.

FOR FURTHER INFORMATION CONTACT: Corin James, Air and Radiation Law Office, Office of General Counsel (Mail code 2344A), Environmental Protection Agency, 1200 Pennsylvania Avenue NW, Washington, DC 20460; telephone number: 202-564-1754; email address: james.corin01@epa.gov.

SUPPLEMENTARY INFORMATION:

I. Public Participation

A. Written Comments

Submit your comments, identified by Docket ID No. EPA-HQ-OGC-2024-0557, at https://www.regulations.gov (our preferred method), or the other methods identified in the ADDRESSES section. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

II. General Information

A. What action is the Agency taking?

The EPA is proposing to revise its regulations under the Clean Air Act (CAA), the Clean Water Act (CWA), the Safe Drinking Water Act (SDWA), the Noise Control Act (NCA), the Resource Conservation and Recovery Act (RCRA), the Comprehensive Environmental Response, Compensation, and Liability Act (CERCLA), and the Toxic Substances Control Act (TSCA) to generally require electronic service to the EPA of Notices of Intent (NOIs) to file a citizen suit under the listed environmental statutes. The existing regulations that prescribe the manner in which NOIs must be served upon the EPA require service by mail. The proposed amendments to the rules would require electronic service to the Administrator, as well as the relevant Regional Administrator, if applicable, via the procedure identified at www.epa.gov/ogc. However, for situations where electronic service is impracticable, the proposed amendments to the rules would allow service of NOIs to be accomplished via certified mail accompanied by an explanation as to why electronic service is impracticable.

B. What is the Agency's authority for taking this action?

The EPA has statutory authority for prescribing regulations under the citizen suit provisions of the CAA, CWA, SDWA, NCA, RCRA, CERCLA, and TSCA.

1. Clean Air Act

Section 304 of the CAA, as amended by Public Law 91-604 (December 31, 1970), authorizes any person to commence a civil action against (1) any person alleged to be in violation of an emission standard or limitation under the CAA or in violation of an order with respect to such limitation issued by the Administrator of the EPA or a State, or (2) the Administrator, where there is alleged a failure of the Administrator to perform any nondiscretionary act or duty under the CAA. Except in certain cases, no action may be commenced against the Administrator pursuant to CAA section 304 prior to 60 days after the plaintiff gives notice of such action to the Administrator. In the case of actions against persons other than the Administrator, section 304 requires that notice of the alleged violation be given to the Administrator, the State in which the violation is alleged to have occurred, and the alleged violator, at least 60 days prior to commencement of the action. CAA section 304 directs the Administrator to prescribe by regulation the manner in which such notices shall be given.

2. Clean Water Act

Section 505 of the CWA authorizes any citizen to commence a civil action against (1) any person alleged to be in violation of an effluent standard or limitation under the CWA or in violation of an order with respect to such limitation issued by the Administrator of the EPA or a State or, (2) the Administrator, where there is alleged a failure of the Administrator to perform any nondiscretionary act or duty under the Act. 33 U.S.C. 1365. Except in certain cases, no action may be commenced against the Administrator pursuant to section 505 prior to 60 days after the plaintiff gives notice of such action to the Administrator. In the case of actions against persons other than the Administrator, section 505 requires that notice of the violation be given to the Administrator, to the State in which the violation is alleged to have occurred, and to the alleged violator, at least 60 days prior to commencement of the action. CWA section 505(b) directs the Administrator to prescribe by regulation the manner in which such notices shall be given.

3. Safe Drinking Water Act

Section 1449 of the SDWA authorizes any person to commence a civil action to enforce the SDWA against an alleged violator of any requirements prescribed by or under the SDWA, or against the Administrator for failure to perform any duty which is not discretionary under the Act. 42 U.S.C. 300j-8. No such action may be commenced prior to 60 days after giving notice of the alleged violation to the Administrator, any alleged violator, and to the State. SDWA section 1449(b) directs the Administrator to prescribe by regulation the manner in which such notices shall be given.

4. Noise Control Act

Section 12 of the NCA of 1972 (Pub. L. 92-574) authorizes any person to commence a civil action against (1) any person alleged to be in violation of any noise control requirement (as defined in section 12(f) of the Noise Control Act), (2) the Administrator of the EPA, where there is an alleged failure of the Administrator to perform any nondiscretionary act or duty under the Act, or (3) the Administrator of the Federal Aviation Administration where there is an alleged failure of the Administrator to perform any nondiscretionary act or duty under section 611 of the Federal Aviation Act of 1958 (49 U.S.C. 1431). No action may be commenced pursuant to section 12 prior to 60 days after the plaintiff has given notice of the action to the Administrator of the EPA, to any alleged violator, and to the Administrator of the Federal Aviation Administration in the case of a violation of section 611 of the Federal Aviation Act. Section 12(b) directs the Administrator of the EPA to prescribe by regulation the manner in which such notices shall be given.

5. Resource Conservation and Recovery Act

Section 7002 of the Solid Waste Disposal Act, as amended by RCRA in 1976, authorizes suit by any person to enforce the Act. These suits may be brought where there is alleged to be a violation by any “person (including (a) The United States, and (b) any other governmental instrumentality or agency, to the extent permitted by the eleventh amendment to the Constitution) of any permit, standard, regulation, condition, requirement, or order” which has become effective under the Act, “against any person . . ., who has contributed or is contributing to the past or present handling, storage, treatment, transportation, or disposal of any solid or hazardous waste which may present an imminent and substantial endangerment to health or the environment,” or “against the Administrator where this is alleged a failure of the Administrator to perform any act or duty [under the Act] which is not discretionary with the Administrator.” 42 U.S.C. 6972(a). RCRA section 7002 authorizes the Administrator to prescribe by regulation the manner in which notice of actions taken under this section shall be given.

6. Comprehensive Environmental Response, Compensation, and Liability Act

Section 310 of CERCLA authorizes any person to commence a civil action on his or her own behalf against: (1) any person (including the United States or other governing agency) who is alleged to be in violation of any standard, regulation, condition, requirement, or order which has become effective under CERCLA (including any provision of an agreement under section 120, relating to Federal facilities); or (2) the President or other officer of the United States (including the Administrator of the EPA or the Administrator of the Agency on Toxic Substances and Disease Registry) for an alleged failure to perform any act or duty which is not discretionary under CERCLA. For actions against a violator of CERCLA, the plaintiff must provide notice to the United States, the State, and the violator 60 days prior to commencing such action. For actions against an officer of the United States for failing to perform a nondiscretionary duty, the plaintiff must provide notice to the United States 60 days prior to commencing such action. Section 310(d) and section 310(e) of CERCLA authorizes the President to promulgate these regulations prescribing the manner in which such notice shall be given; the President has delegated that authority to the Administrator of the EPA.

7. Toxic Substances Control Act

Section 20 of TSCA authorizes persons to initiate citizens' suits to restrain certain violators of TSCA or to compel implementation by the EPA of TSCA non-discretionary authorities. Prior to filing suit, persons must give notice both to the Administrator and to the person alleged to have violated the Act. Section 20 requires that this notice be given 60 days prior to beginning civil suit, and the manner of giving notice is to be determined by the Administrator.

III. Background

Proposed Amendments to Regulations Under 40 CFR Parts 54, 135, 210, 254, 374, and 702

Pursuant to the Administrator's authority to prescribe regulations as described in section II.B of this preamble, the EPA is proposing changes to its regulations under 40 CFR 54.2, 135.2, 210.2, 254.2, 374.2, and 702.61, to amend the manner in which NOIs shall be given. Currently, the existing regulations require that service of NOIs to the EPA be accomplished by mail. The proposed changes to the relevant regulations would require electronic service to the EPA via the procedure identified on the EPA Office of General Counsel's website (www.epa.gov/ogc). The EPA is proposing to require electronic submission of NOIs to ensure the Agency receives and processes such NOIs in a modern, more timely, and efficient manner. The proposed change would better serve the purpose of the 60-day waiting period that these statutes prescribe because the EPA would receive electronic NOIs instantaneously and would have more time to potentially address the concern provided in the NOI before the NOI submitter files a judicial complaint. Such a change could alleviate the need for costly and protracted litigation, which would conserve the resources of the Agency and the public. Additionally, centralizing an electronic NOI repository would allow the Agency to more effectively monitor the NOIs received and quickly post them to EPA's public-facing website, which is important for public transparency. The EPA also expects that electronic service would benefit the public because it is more convenient and less costly than the existing process, which requires NOI submitters to bear the costs of paper printing and sending potentially voluminous collections of documents via certified mail. Finally, electronic service is generally more reliable and less likely to result in potential disputes over the timing of service or whether the requirement to serve the Agency with an NOI was met, which would also conserve public and Agency resources.

However, the proposed amendments also would provide that if electronic service is not practicable, service of NOIs may be accomplished via certified mail, accompanied by an explanation as to why electronic service is not practicable. The EPA is proposing this practicability exception to the electronic service requirement because the Agency recognizes that there are persons that may have difficulty accessing the internet or email. For those persons, the option for certified mail may be more accessible, and the Agency is committed to promoting and enabling public participation requirements for all persons. Thus, while the EPA is proposing to broadly require electronic service of NOIs for the reasons discussed in the prior paragraph, the Agency would retain the pre-existing procedures via an exception with the goal of ensuring that this change does not adversely impact persons for which service by certified mail is more accessible.

IV. Statutory and Executive Orders Reviews

Additional information about these statutes and Executive Orders can be found at https://www.epa.gov/laws-regulations/laws-and-executive-orders.

A. Executive Order 12866: Regulatory Planning and Review and Executive Order 13563: Improving Regulation and Regulatory Review

This action is not a significant regulatory action as defined in Executive Order 12866, a therefore not subject to a requirement for Executive Order 12866 review.

B. Executive Order 14192: Unleashing Prosperity Through Deregulation

This action is expected to be an Executive Order 14192 deregulatory action. This proposed rule is expected to provide burden reduction by providing for electronic service which is more convenient and less costly than the existing process, which requires NOI submitters to bear the costs of paper printing and sending voluminous collections of documents via certified mail.

C. Paperwork Reduction Act (PRA)

This action does not impose an information collection burden under the PRA. This proposed rulemaking does not contain any information collection requirements subject to OMB review under the Paperwork Reduction Act of 1980 (44 U.S.C. 3501 et seq.).

D. Regulatory Flexibility Act (RFA)

I certify that this action will not have a significant economic impact on a substantial number of small entities under the RFA. In making this determination, the EPA concludes that the impact of concern for this rulemaking is any significant adverse economic impact on small entities and that the agency is certifying that this rulemaking will not have a significant economic impact on a substantial number of small entities because the rule has no net burden on the small entities subject to the rule. This rulemaking has no net burden because it merely revises the primary mechanism for providing notice of intent to sue pursuant to existing citizen suit provisions. We have therefore concluded that this action will have no net regulatory burden for all directly regulated small entities.

E. Unfunded Mandates Reform Act (UMRA)

This action does not contain an unfunded mandate as described in UMRA, 2 U.S.C. 1531-1538, and does not significantly or uniquely affect small governments. The action imposes no enforceable duty on any state, local or tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175 because this action merely revises the primary mechanism for providing notice of intent to sue pursuant to existing citizen suit provisions. Thus, Executive Order 13175 does not apply to this action.

H. Executive Order 13045: Protection of Children From Environmental Health Risks and Safety Risks

EPA interprets Executive Order 13045 as applying only to those regulatory actions that concern environmental health or safety risks that EPA has reason to believe may disproportionately affect children, per the definition of “covered regulatory action” in section 2-202 of the Executive Order. Therefore, this action is not subject to Executive Order 13045 because it does not concern an environmental health risk or safety risk. Since this action does not concern human health, the EPA's Policy on Children's Health also does not apply.

I. Executive Order 13211: Actions Concerning Regulations That Significantly Affect Energy Supply, Distribution or Use

This action is not subject to Executive Order 13211, because it is not a significant regulatory action under Executive Order 12866.

J. National Technology Transfer and Advancement Act (NTTAA)

This rulemaking does not involve technical standards.

List of Subjects

40 CFR Part 54

Environmental protection, Administrative practice and procedure, Air pollution control.

40 CFR Part 135

Environmental protection, Administrative practice and procedure, Water pollution control.

40 CFR Part 210

Environmental protection, Administrative practice and procedure, Noise control.

40 CFR Part 254

Environmental protection, Administrative practice and procedure, Waste treatment and disposal.

40 CFR Part 374

Environmental protection, Administrative practice and procedure, Air pollution control, Hazardous substances, Hazardous waste, Natural resources, Superfund, Water pollution control, Water supply.

40 CFR Part 702

Environmental protection, Administrative practice and procedure, Chemicals, Hazardous substances.

Lee Zeldin,
Administrator.

For the reasons set forth in the preamble, EPA proposes to amend title 40, chapter I of the Code of Federal Regulations as follows:

PART 54—PRIOR NOTICE OF CITIZEN SUITS

1. The authority citation for part 54 continues to read as follows:

Authority: Sec. 304 of the Clean Air Act, as amended (sec. 12, Pub. L. 91-604, 84 Stat. 1706).

2. Amend § 54.2 by revising paragraphs (a) and (d) to read as follows:

§ 54.2 Service of notice.

(a) Notice to Administrator: Service of notice given to the Administrator under this part shall be accomplished electronically via the procedure identified at www.epa.gov/ogc. If electronic service is not practicable, service of notice may be accomplished via certified mail addressed to the Administrator, c/o Office of General Counsel, Air and Radiation Law Office (mail code 2344A), Environmental Protection Agency, Attn: Service of Notice, 1200 Pennsylvania Avenue NW, Washington, DC 20460. Service by mail shall be accompanied by an explanation as to why electronic service is impracticable. Where notice relates to violation of an emission standard or limitation or to violation of an order issued with respect to an emission standard or limitation, a copy of such notice shall be sent electronically to the Regional Administrator of the Environmental Protection Agency for the Region in which such violation is alleged to have occurred via the procedure identified at www.epa.gov/ogc. If electronic service is not practicable, service of notice may be accomplished via certified mail. Service by mail shall be accompanied by an explanation as to why electronic service is impracticable.

* * * * *

(d) Notice served in accordance with the provisions of this part shall be deemed given on the electronic date stamp if served electronically. If service was accomplished by mail, the date of receipt will be deemed to be the date noted on the return receipt card.

PART 135—PRIOR NOTICE OF CITIZEN SUITS

3. The authority citation for part 135 continues to read as follows:

Authority: Subpart A, issued under Sec. 505, Clean Water Act, as amended 1987; Sec. 504, Pub. L. 100-4; 101 Stat. 7 (33 U.S.C. 1365). Subpart B, issued under Sec. 1449, Safe Drinking Water Act (42 U.S.C. 300j-8).

4. Revise § 135.2 to read as follows:

§ 135.2 Service of notice.

(a) Notice of intent to file suit pursuant to section 505(a)(1) of the Act shall be served upon an alleged violator of an effluent standard or limitation under the Act, or an order issued by the Administrator or a State with respect to such a standard or limitation, in the following manner:

(1) If the alleged violator is an individual or corporation, service of notice shall be accomplished by certified mail addressed to, or by personal service upon, the owner or managing agent of the building, plant, installation, vessel, facility, or activity alleged to be in violation. A copy of the notice shall be provided electronically to the Administrator of the Environmental Protection Agency and to the Regional Administrator (for the Region in which such violation is alleged to have occurred) as prescribed at www.epa.gov/ogc. If electronic service is not practicable, copies of the notice may be provided via certified mail with return receipt requested, addressed to the Administrator, c/o Office of General Counsel, Water Law Office (2355A), Environmental Protection Agency, Attn: Service of Notice, 1200 Pennsylvania Avenue NW, Washington, DC 20460, and to the Regional Administrator (for the Region in which the violation is alleged to have occurred). Service by mail shall be accompanied by an explanation as to why electronic service is impracticable. A copy of such notice also shall be mailed to the chief administrative officer of the water pollution control agency for the State in which the violation is alleged to have occurred. If the alleged violator is a corporation, a copy of such notice also shall be mailed to the registered agent, if any, of such corporation in the State in which such violation is alleged to have occurred.

(2) If the alleged violator is a State or local agency, service of notice shall be accomplished by certified mail addressed to, or by personal service upon, the head of such agency. A copy of the notice shall be provided electronically to the Administrator of the Environmental Protection Agency and to the Regional Administrator (for the Region in which such violation is alleged to have occurred) as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460, and to the Regional Administrator (for the Region in which such violation is alleged to have occurred). Service by mail shall be accompanied by an explanation as to why electronic service is impracticable. A copy of such notice shall be mailed to the chief administrative officer of the water pollution control agency for the State in which the violation is alleged to have occurred.

(3) If the alleged violator is a Federal agency, service of notice shall be accomplished by certified mail addressed to, or by personal service upon, the head of such agency. A copy of such notice shall be provided electronically to the Administrator of the Environmental Protection Agency and to the Regional Administrator (for the Region in which such violation is alleged to have occurred) as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460, and to the Regional Administrator (for the Region in which the violation is alleged to have occurred). Service by mail shall be accompanied by an explanation as to why electronic service is impracticable. A copy of such notice shall be mailed to the Attorney General of the United States, and the Chief administrative officer of the water pollution control agency for the State in which the violation is alleged to have occurred.

(b) Service of notice of intent to file suit pursuant to section 505(a)(2) of the Act shall be provided electronically to the Administrator of the Environmental Protection Agency as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460. Service by mail shall be accompanied by an explanation as to why electronic service is impracticable. A copy of such notice shall be mailed to the Attorney General of the United States.

(c) Notice given in accordance with the provisions of this subpart shall be deemed to have been served on the postmark date if mailed or on the date of receipt if served personally. If service was accomplished electronically, the date of receipt will be deemed to be the date of the electronic date stamp.

5. Revise § 135.11 to read as follows:

§ 135.11 Service of notice.

(a) Notice of intent to file suit pursuant to section 1449(a)(1) of the Act shall be served in the following manner upon an alleged violator of any requirement prescribed by or under the Act:

(1) If the alleged violator is an individual or corporation, service of notice shall be accomplished by certified mail, return receipt requested, addressed to, or by personal service upon, such individual or corporation. If a public water system or underground injection well is alleged to be in violation, service shall be upon the owner or operator. A copy of the notice shall be provided electronically to the Administrator of the Environmental Protection Agency and to the Regional Administrator (for the Region in which such violation is alleged to have occurred) as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460, and to the Regional Administrator (for the Region in which such violation is alleged to have occurred). Service by mail shall be accompanied by an explanation as to why electronic service is impracticable. A copy of such notice also shall be mailed to the chief administrative officer of the responsible state agency (if any), and the Attorney General for the State in which the violation is alleged to have occurred. If the alleged violator is a corporation, a copy of the notice shall also be sent by certified mail, return receipt requested, to the registered agent (if any) of the corporation in the State in which the violation is alleged to have occurred.

(2) If the alleged violator is a State or local agency, service of notice shall be accomplished by certified mail, return receipt requested, addressed to, or by personal service upon, the head of such agency. A copy of the notice shall be provided electronically to the Administrator of the Environmental Protection Agency and to the Regional Administrator (for the Region in which such violation is alleged to have occurred) as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460, and to the Regional Administrator (for the Region in which such violation is alleged to have occurred). Service by mail shall be accompanied by an explanation as to why electronic service is impracticable. A copy of such notice also shall be mailed to the chief administrative officer of the responsible state agency (if any), and the Attorney General for the State in which the violation is alleged to have occurred.

(3) If the alleged violator is a Federal agency, service of notice shall be accomplished by certified mail, return receipt requested, addressed to, or by personal service upon, the head of the Federal agency. A copy of the notice shall be provided electronically to the Administrator of the Environmental Protection Agency and to the Regional Administrator (for the Region in which such violation is alleged to have occurred) as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460, and to the Regional Administrator (for the Region in which such violation is alleged to have occurred). Service by mail shall be accompanied by an explanation as to why electronic service is impracticable. A copy of such notice also shall be mailed to the Attorney General of the United States, the chief administrative officer of the responsible state agency (if any), and the Attorney General for the State in which the violation is alleged to have occurred.

(b) Service of notice of intent to file suit pursuant to section 1449(a)(2) of the Act shall be provided electronically to the Administrator of the Environmental Protection Agency as prescribed at www.epa.gov/ogc. If electronic service is not practicable, service of notice may be accomplished via certified mail with return receipt requested, addressed to the Administrator, c/o Office of General Counsel, Water Law Office (2355A), Environmental Protection Agency, Attn: Service of Notice, 1200 Pennsylvania Avenue NW, Washington, DC 20460. Service by mail shall be accompanied by an explanation as to why electronic service is impracticable. A copy of the notice shall be sent by certified mail to the Attorney General of the United States.

(c) Notice given in accordance with the provisions of this subpart shall be deemed to have been given on the date of receipt of service, if served personally. If service was accomplished by mail, the date of receipt will be considered to be the date noted on the return receipt card. If service was accomplished electronically, the date of receipt will be deemed to be the date of the electronic date stamp.

PART 210—PRIOR NOTICE OF CITIZEN SUITS

6. The authority citation for part 210 continues to read as follows:

Authority: Sec. 12, Noise Control Act, (Pub. L. 92-574, 86 Stat. 1234).

7. Revise § 210.2 to read as follows:

§ 210.2 Service of notice.

(a) Notice of intent to file suit pursuant to section 12(a)(1) of the Act shall be served upon an alleged violator of a noise control requirement issued under the Act in the following manner:

(1) If the alleged violator is a private individual or a corporation, service of notice shall be accomplished by registered mail, return receipt requested, addressed to, or by personal service upon, the owner or managing agent of the equipment, plant, facility, vehicle, or activity alleged to be in violation. A copy of the notice shall be sent electronically to both the Administrator of the Environmental Protection Agency and the Regional Administrator of the Environmental Protection Agency for the region in which such violation is alleged to have occurred via the procedure identified at www.epa.gov/ogc. If electronic service is not practicable, service of notice may be accomplished via certified mail mailed to the Administrator, c/o Office of General Counsel, Air and Radiation Law Office (mail code 2344A), Environmental Protection Agency, Attn: Service of Notice, 1200 Pennsylvania Avenue NW, Washington, DC 20460, and to the Regional Administrator of the Environmental Protection Agency for the Region in which such violation is alleged to have occurred. Such service by mail shall be accompanied by an explanation as to why electronic service is impracticable. In the case of a violation of a noise control requirement under section 611 of the Federal Aviation Act, a copy of such notice shall also be mailed to the Administrator of the Federal Aviation Administration, and the Regional Administrator of the Federal Aviation Administration for the region in which such violation is alleged to have occurred. If the alleged violator is a corporation, a copy of such notice also shall be mailed to the registered agent, if any, of such corporation in the State in which such violation is alleged to have occurred.

(2) If the alleged violator is a State or local government entity, service of notice shall be accomplished by registered mail, return receipt requested, addressed to, or by personal service upon, the head of such agency. A copy of such notice shall be sent electronically to both the Administrator of the Environmental Protection Agency and the Regional Administrator of the Environmental Protection Agency for the region in which such violation is alleged to have occurred via the procedure identified at www.epa.gov/ogc. If electronic service is not practicable, service of notice may be accomplished via certified mail mailed to the Administrator, c/o Office of General Counsel, Air and Radiation Law Office (mail code 2344A), Environmental Protection Agency, Attn: Service of Notice, 1200 Pennsylvania Avenue NW, Washington, DC 20460, and to the Regional Administrator of the Environmental Protection Agency for the Region in which such violation is alleged to have occurred. Such service by mail shall be accompanied by an explanation as to why electronic service is impracticable. In the case of a violation of a noise control requirement under section 611 of the Federal Aviation Act, a copy of such notice shall also be mailed to the Administrator of the Federal Aviation Administration, and the Regional Administrator of the Federal Aviation Administration for the region in which such violation is alleged to have occurred.

(3) If the alleged violator is a Federal agency, service of notice shall be accomplished by registered mail, return receipt requested, addressed to, or by personal service upon, the head of such agency. A copy of such notice shall be sent electronically to both the Administrator of the Environmental Protection Agency and the Regional Administrator of the Environmental Protection Agency for the region in which such violation is alleged to have occurred via the procedure identified at www.epa.gov/ogc. If electronic service is not practicable, service of notice may be accomplished via certified mail mailed to the Administrator, c/o Office of General Counsel, Air and Radiation Law Office (mail code 2344A), Environmental Protection Agency, Attn: Service of Notice, 1200 Pennsylvania Avenue NW, Washington, DC 20460, and to the Regional Administrator of the Environmental Protection Agency for the Region in which such violation is alleged to have occurred. Such service by mail shall be accompanied by an explanation as to why electronic service is impracticable. A copy of such notice shall also be mailed to the Attorney General of the United States; and in the case of a violation of a noise control requirement under section 611 of the Federal Aviation Act, to the Administrator of the Federal Aviation Administration, and the Regional Administrator of the Federal Aviation Administration for the region in which such violation is alleged to have occurred.

(b) Service of notice of intent to file suit pursuant to section 12(a)(2)(A) of the Act upon the Administrator of the Environmental Protection Agency shall be accomplished electronically via the procedure identified at www.epa.gov/ogc. If electronic service is not practicable, service of notice may be accomplished via certified mail addressed to the Administrator, c/o Office of General Counsel, Air and Radiation Law Office (mail code 2344A), Environmental Protection Agency, Attn: Service of Notice, 1200 Pennsylvania Avenue NW, Washington, DC 20460. Such service by mail shall be accompanied by an explanation as to why electronic service is impracticable A copy of such notice shall be mailed to the Attorney General of the United States.

(c) Service of notice of intent to file suit pursuant to section 12(a)(2)(B) of the Act shall be accomplished by registered mail, return receipt requested, addressed to, or by personal service upon, the Administrator, Federal Aviation Administration, Washington, DC. A copy of such notice shall be mailed to the Attorney General of the United States. A copy of such notice shall also be sent electronically via the procedure identified at www.epa.gov/ogc to the Administrator of the Environmental Protection Agency. If electronic service is not practicable, service of notice to the Administrator of the Environmental Protection Agency may be accomplished via certified mail addressed to the Administrator, c/o Office of General Counsel, Air and Radiation Law Office (mail code 2344A), Environmental Protection Agency, Attn: Service of Notice, 1200 Pennsylvania Avenue NW, Washington, DC 20460. Such service by mail shall be accompanied by an explanation as to why electronic service is impracticable.

(d) Notice given in accordance with the provisions of this part shall be deemed to have been served on the date of receipt. If service was accomplished electronically, the date of receipt will be deemed to be the date of the electronic date stamp. If service was accomplished by mail, the date of receipt will be deemed to be the date noted on the return receipt card.

PART 254—PRIOR NOTICE OF CITIZEN SUITS

8. The authority citation for part 210 continues to read as follows:

Authority: Sec. 7002, Pub. L. 94-580, 90 Stat. 2825 (42 U.S.C. 6972).

9. Revise § 254.2 to read as follows:

§ 254.2 Service of notice.

(a) Notice of intent to file suit under subsection 7002(a)(1) of the Act shall be served upon an alleged violator of any permit, standard, regulation, condition, requirement, or order which has become effective under this Act in the following manner:

(1) If the alleged violator is a private individual or corporation, service of notice shall be accomplished by registered mail, return receipt requested, addressed to, or by personal service upon, the owner or site manager of the building, plant, installation, or facility alleged to be in violation. A copy of the notice shall be provided electronically to both the Administrator of the Environmental Protection Agency and the Regional Administrator of the Environmental Protection Agency for the Region in which the violation is alleged to have occurred via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460, and addressed to the Regional Administrator of the Environmental Protection Agency for the Region in which the violation is alleged to have occurred. Such service by mail shall be accompanied by an explanation as to why electronic service is impracticable. A copy of the notice shall be mailed to the chief administrative officer of the solid waste management agency for the State in which the violation is alleged to have occurred. If the alleged violator is a corporation, a copy of the notice shall also be mailed to the registered agent, if any, of that corporation in the State in which such violation is alleged to have occurred.

(2) If the alleged violator is a State or local agency, service of notice shall be accomplished by registered mail, return receipt requested, addressed to, or by personal service upon, the head of that agency. A copy of the notice shall be provided electronically to both the Administrator of the Environmental Protection Agency and the Regional Administrator of the Environmental Protection Agency for the Region in which the violation is alleged to have occurred via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460, and addressed to the Regional Administrator of the Environmental Protection Agency for the Region in which the violation is alleged to have occurred. Such service by mail shall be accompanied by an explanation as to why electronic service is impracticable. A copy of the notice shall be mailed to the chief administrator of the solid waste management agency for the State in which the violation is alleged to have occurred.

(3) If the alleged violator is a Federal agency, service of notice shall be accomplished by registered mail, return receipt requested, addressed to, or by personal service upon, the head of the agency. A copy of the notice shall be provided electronically to both the Administrator of the Environmental Protection Agency and the Regional Administrator of the Environmental Protection Agency for the Region in which the violation is alleged to have occurred via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460, and addressed to the Regional Administrator of the Environmental Protection Agency for the Region in which the violation is alleged to have occurred. Such service by mail shall be accompanied by an explanation as to why electronic service is impracticable. A copy of the notice shall be mailed to the Attorney General of the United States, and the chief administrative officer of the solid waste management agency for the State in which the violation is alleged to have occurred.

(b) Service of notice of intent to file suit under subsection 7002(a)(2) of the Act shall be served upon the Administrator of the Environmental Protection Agency electronically via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460. Such service by mail shall be accompanied by an explanation as to why electronic service is impracticable. A copy of the notice shall be mailed to the Attorney General of the United States.

(c) Notice given in accordance with the provisions of this part shall be considered to have been served on the date of receipt. If service was accomplished by mail, the date of receipt will be considered to be the date noted on the return receipt card. If service was accomplished electronically, the date of receipt will be deemed to be the date of the electronic date stamp.

PART 374—PRIOR NOTICE OF CITIZEN SUITS

10. The authority citation for part 374 continues to read as follows:

Authority: 42 U.S.C. 9659.

11. Revise § 374.2 to read as follows:

§ 374.2 Service of notice.

(a) Violation of standard, regulation, condition, requirement, or order. Notice of intent to file suit under subsection 310(a)(1) of the Act shall be served by personal service upon, or by certified mail, return receipt requested, addressed to the alleged violator of any standard, regulation, condition, requirement, or order which has become effective pursuant to this Act in the following manner:

(1) If the alleged violator is a private individual or corporation, notice shall be served by personal service upon, or by certified mail, return receipt requested, addressed to the person alleged to be in violation. If the alleged violator is a corporation, a copy of the notice shall also be served by personal service upon or by certified mail, return receipt requested, addressed to the registered agent, if any, of that corporation in the State in which the violation is alleged to have occurred. A copy of the notice shall be served by personal service upon or by certified mail, return receipt requested, addressed to the United States Attorney General; to the Attorney General of the State in which the violation is alleged to have occurred; and to the head of the Federal agency with delegated responsibility for the CERCLA provision allegedly violated, pursuant to Executive Order 12580, 3 CFR, 1987 Comp., p. 193, as amended by Executive Order 12777, 3 CFR, 1991 Comp., p. 351. If the Environmental Protection Agency has responsibility for the CERCLA provision allegedly violated, then a copy of the notice shall be provided electronically to both the Administrator of the Environmental Protection Agency and the Regional Administrator of the Environmental Protection Agency for the Region in which the violation is alleged to have occurred via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460, and addressed to the Regional Administrator of the Environmental Protection Agency for the Region in which the violation is alleged to have occurred. Such service by mail shall be accompanied by an explanation as to why electronic service is impracticable. A list of addresses that may be useful in providing notice of citizen suits is provided at § 374.6. Note that these addresses are subject to change and must be verified prior to use.

(2) If the alleged violator is a State or local agency, notice shall be served by personal service upon or by certified mail, return receipt requested, addressed to the head of that agency. A copy of the notice shall be served by personal service upon or by certified mail, return receipt requested, addressed to the United States Attorney General; to the Attorney General of the State in which the violation is alleged to have occurred; and to the head of the Federal agency with delegated responsibility, pursuant to Executive Order 12580, for the CERCLA provision allegedly violated. If the Environmental Protection Agency has the delegated responsibility for the CERCLA provision allegedly violated, then a copy of the notice shall be provided electronically to both the Administrator of the Environmental Protection Agency and the Regional Administrator of the Environmental Protection Agency for the Region in which the violation is alleged to have occurred via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460, and addressed to the Regional Administrator of the Environmental Protection Agency for the Region in which the violation is alleged to have occurred. Such service by mail shall be accompanied by an explanation as to why electronic service is impracticable. A list of addresses that may be useful in providing notice of citizen suits is provided at § 374.6. Note that these addresses are subject to change and must be verified prior to use.

(3) If the alleged violator is a Federal agency, notice shall be served by personal service upon or by certified mail, return receipt requested, addressed to the head of the agency. A copy of the notice shall be served by personal service upon or by certified mail, return receipt requested, addressed to the United States Attorney General; to the Attorney General of the State in which the violation is alleged to have occurred; and to the head of the Federal agency with delegated responsibility, pursuant to Executive Order 12580, for the CERCLA provision allegedly violated. If the Environmental Protection Agency has the delegated responsibility for the CERCLA provision allegedly violated, then a copy of the notice shall be provided electronically to both the Administrator of the Environmental Protection Agency and the Regional Administrator of the Environmental Protection Agency for the Region in which the violation is alleged to have occurred via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460, and addressed to the Regional Administrator of the Environmental Protection Agency for the Region in which the violation is alleged to have occurred. Such service by mail shall be accompanied by an explanation as to why electronic service is impracticable. A list of addresses that may be useful in providing notice of citizen suits is provided at § 374.6. Note that these addresses are subject to change and must be verified prior to use.

(b) Failure to act. Service of notice of intent to file suit under subsection 310(a)(2) of the Act shall be accomplished by personal service upon or by certified mail, return receipt requested, addressed to the United States Attorney General and addressed to the head of the agency of the United States (including the Administrator of the Agency for Toxic Substances and Disease Registry), who is alleged to have failed to perform an act or duty which is not discretionary. Service upon the Administrator of the Environmental Protection Agency, if required, shall be accomplished electronically via the procedure identified at www.epa.gov/ogc. If electronic service is not practicable, service of notice may be accomplished via certified mail addressed to the Administrator, c/o Office of General Counsel, Solid Waste and Emergency Response Law Office, Environmental Protection Agency, Attn: Service of Notice, 1200 Pennsylvania Avenue NW, Washington, DC 20460. Such service by mail shall be accompanied by an explanation as to why electronic service is impracticable.

(c) Date of service. Notice given in accordance with the provisions of this part shall be considered to have been served on the date of receipt. If notice or copy of notice is required to be served on more than one entity, notice shall be considered to have been served on the date of receipt by the last entity served. If service was accomplished by mail, the date of receipt will be considered to be the date noted on the return receipt card. If service was accomplished electronically, the date of receipt will be deemed to be the date of the electronic date stamp.

PART 702—GENERAL PRACTICES AND PROCEDURES

12. The authority citation for part 702 continues to read as follows:

Authority: 15 U.S.C. 2605 and 2619.

13. Amend § 702.61 by

a. Removing paragraphs (b) and (c)(3); and

b. Redesignating paragraphs (c) and (d) as paragraphs (b) and (c), and revising the newly redesignated paragraphs (b) and (c). The revisions read as follows:

§ 702.61 Service of notice.

* * * * *

(b) Date of service. The effective date of service of a notice given in accordance with this rule shall be the date of the return receipt, if served by mail, or the date of receipt if personally served. If service was accomplished electronically, the date of receipt will be deemed to be the date of the electronic date stamp.

(c) Persons to be served and method of service—

(1) Violations of TSCA rules or TSCA order.

(i) If the alleged violator is a private individual or a corporation, notice of intent to file suit shall be served on the individual or the owner or managing agent of the plant, facility, or activity alleged to be in violation. If the alleged violator is a corporation, a copy of the notice shall also be sent to the registered agent, if any, of such corporation in the State in which such violation is alleged to have occurred. Notice can be either personally served or served by certified mail—return receipt requested. A copy of the notice shall be provided electronically to the Administrator of the Environmental Protection Agency as prescribed at www.epa.gov/ogc. If electronic service is not practicable, service of notice may be accomplished via certified mail with return receipt requested, addressed to the Administrator, c/o Office of General Counsel, Pesticides and Toxic Substances Law Office, Environmental Protection Agency, Attn: Service of Notice, 1200 Pennsylvania Avenue NW, Washington, DC 20460. Such service by mail shall be accompanied by an explanation as to why electronic service is impracticable.

(ii) If the alleged violator is a State or local government entity, notice of intent to file suit shall be served on the head of the agency. Notice can be either personally served or served by certified mail—return receipt requested. A copy of the notice shall be provided electronically to the Administrator of the Environmental Protection Agency as prescribed at www.epa.gov/ogc. If electronic service is not practicable, service of notice may be accomplished via certified mail with return receipt requested, addressed to the Administrator, c/o Office of General Counsel, Pesticides and Toxic Substances Law Office, Environmental Protection Agency, Attn: Service of Notice, 1200 Pennsylvania Avenue NW, Washington, DC 20460. Such service by mail shall be accompanied by an explanation as to why electronic service is impracticable. A copy shall be mailed by certified mail—return receipt requested to the Attorney General of the United States at 10th and Constitution Avenue NW, Washington, DC 20530.

(iii) If the alleged violator is a Federal agency, notice of intent to file suit shall be served on the head of the agency. Notice can be either personally served or served by certified mail—return receipt requested. A copy of the notice shall be provided electronically to the Administrator of the Environmental Protection Agency as prescribed at www.epa.gov/ogc. If electronic service is not practicable, service of notice may be accomplished via certified mail with return receipt requested, addressed to the Administrator, c/o Office of General Counsel, Pesticides and Toxic Substances Law Office, Environmental Protection Agency, Attn: Service of Notice, 1200 Pennsylvania Avenue NW, Washington, DC 20460. Such service by mail shall be accompanied by an explanation as to why electronic service is impracticable. A copy shall be mailed by certified mail—return receipt requested to the Attorney General of the United States at 10th and Constitution Avenue NW, Washington, DC 20530.

(2) Performance of non-discretionary TSCA acts or duties. Notice of intent to file suit shall be provided electronically to the Administrator of the Environmental Protection Agency as prescribed at www.epa.gov/ogc. If electronic service is not practicable, service of notice may be accomplished via certified mail with return receipt requested, addressed to the Administrator, c/o Office of General Counsel, Pesticides and Toxic Substances Law Office, Environmental Protection Agency, Attn: Service of Notice, 1200 Pennsylvania Avenue NW, Washington, DC 20460. Such service by mail shall be accompanied by an explanation as to why electronic service is impracticable. A copy shall be mailed by certified mail—return receipt requested to the Attorney General of the United States, at 10th and Constitution Avenue NW, Washington, DC 20530.

[FR Doc. 2026-03646 Filed 2-23-26; 8:45 am]

BILLING CODE 6560-50-P